DEPARTMENT OF TRANSPORTATION

Federal Motor Carrier Safety Administration

[Docket No. FMCSA-2017-0046]

New Agency Information Collection Activities; Extension of a Currently-Approved Information Collection: Annual Report of Class I Motor Carriers of Passengers

AGENCY: Federal Motor Carrier Safety Administration (FMCSA).

ACTION: Notice and request for comments.

SUMMARY: In accordance with the Paperwork Reduction Act of 1995, FMCSA announces its plan to submit the Information Collection Request (ICR) described below to the Office of Management and Budget (OMB) for its review and approval and invites public comment. The FMCSA requests OMB's renewal for three years of the information collection entitled, Annual Report of Class I Motor Carriers of Passengers (OMB Control No. 2126-0031), which is currently due to expire on April 30, 2017.

DATES: We must receive your comments on or before May 15, 2017.

ADDRESSES: You may submit comments identified by Federal Docket Management System (FDMS) Docket Number FMCSA-2016-0046 using any of the following methods:

• Federal eRulemaking Portal: http://www.regulations.gov. Follow the online instructions for submitting comments.

• Fax: 1-202-493-2251.

• Mail: Docket Operations; U.S. Department of Transportation, 1200 New Jersey Avenue SE., West Building, Ground Floor, Room W12-140, Washington, DC 20590-0001.

• Hand Delivery or Courier: U.S. Department of Transportation, 1200 New Jersey Avenue SE., West Building, Ground Floor, Room W12-140, Washington, DC 20590-0001 between 9 a.m. and 5 p.m. e.t., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Vivian Oliver, Office or Registration and Safety Information Department of Transportation, FMCSA, West Building 6th Floor, 1200 New Jersey Avenue SE., Washington, DC 20590. Telephone: 202-366-2974; email vivian.oliver@dot.gov.

SUPPLEMENTARY INFORMATION:

Background: In chapter 141 of the ICC Termination Act of 1995 (ICCTA), Public Law 104-88, 109 Stat. 803, 893 (Dec. 29, 1995) now codified at 49 U.S.C. 14123, Congress transferred the responsibility for collecting the Financial and Operating Statistics (F&OS) data to the Secretary of Transportation (Secretary). The ICCTA requires the Secretary to collect annual financial reports from Class I and Class II motor carriers of passengers. However, the Secretary has exercised the authority under 49 U.S.C. 14123 to require only Class I motor carriers of passengers to file annual reports to ensure that they are in compliance with the F&OS program requirements (See 78 FR 76241 (12/17/13), as codified at 49 CFR 369.4).

The Form MP-1 annual report will be used to collect financial, operating, equipment and employment data from individual motor carriers of passengers. All Class I for-hire motor carriers of passengers with gross annual operating revenues of $5 million or more are required to file annual reports.

The data will be available to users in its original form. The data are not used by the Department of Transportation, and, based on comments to the proposed rule finalized on December 17, 2013, as discussed above, the data are no longer used by trucking associations. Insurance companies, consultants, law firms, academia, trade publications and others may use the data to assess industry growth and its impact on the economy, to identify industry changes that may affect national transportation, and to monitor company financial stability. The Bureau of Economic Analysis (BEA) of the U.S. Department of Commerce uses the data to inform the national annual input-output and Gross Domestic Product (GDP) estimates. BEA uses the data to prepare estimates of industry output and provide details on inputs to supplement the information on motor carriers of passengers collected by the U.S. Census Bureau.

Title: Annual Report of Class I Motor Carriers of Passengers.

OMB Control Number: 2126-0031.

Type of Request: Extension of a currently approved information collection.

Respondents: Motor Carriers.

Estimated Number of Respondents: 408.

Estimated Time per Response: 18 minutes.

Expiration Date: April 30, 2017.

Frequency of Response: Annually.

Estimated Total Annual Burden: 122 hours (408 responses × 18 minutes per response/60 = 122.4 rounded to 122).

PUBLIC COMMENTS INVITED: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: March 9, 2017.
Kelly Regal,
Associate Administrator for Office of Research and Information Technology.

[FR Doc. 2017-05258 Filed 3-15-17; 8:45 am]

BILLING CODE 4910-EX-P